DEPARTMENT OF ENERGY

Federal Energy Regulatory Commission

[Docket No. PA02-2-000]

Fact-Finding Investigation of Potential Manipulation of Electric and Natural Gas Prices; Notice of Docket Designation

February 26, 2002.

On February 13, 2002, the Commission issued an order entitled “Order Directing Staff Investigation.” That order was issued under the caption “Fact-Finding Investigation of Potential Manipulation of Electric and Natural Gas Prices,” but did not have a docket designation. The proceeding that the February 13th order initiated has now been designated as Docket No. PA02-2-000. The February 13, 2002 order is to be regarded as having been issued in this docket.

Public orders, notices, information requests, and other documents issued in Docket No. PA02-2-000 will be posted on the Commission's web site, http://www.ferc.gov. Parties responding to information requests issued in this proceeding may request privileged treatment pursuant to 18 CFR 388.112.

Linwood A. Watson, Jr.,
Deputy Secretary.

[FR Doc. 02-5056 Filed 3-1-02; 8:45 am]

BILLING CODE 6717-01-P